DEPARTMENT OF HOMELAND SECURITY

5 CFR Part 9701

[Docket No. DHS-2004-0001]

RIN 1601-AA19

Management Directorate; Department of Homeland Security Human Resources Management System

AGENCY: Office of the Secretary, Department of Homeland Security.

ACTION: Notice of Implementation Date.

SUMMARY: This notice informs the public of the operative date the Department of Homeland Security is rescinding application of the Department of Homeland Security Human Resources Management System.

DATES: Applicable beginning October 1, 2008.

FOR FURTHER INFORMATION CONTACT: Robert Lauria, Deputy Director for Performance Management, Department of Homeland Security, Office of the Chief Human Capital Officer, (202) 357-8240.

SUPPLEMENTARY INFORMATION:

Authority: 5 U.S.C. 9701; 5 CFR 9701.102.

On February 1, 2005, the Department of Homeland Security (DHS) and the Office of Personnel Management (OPM) jointly issued final regulations at 5 CFR Part 9701 establishing a Department of Homeland Security Human Resources Management System (the “System”). Pursuant to 5 CFR 9701.102(b)(2), Subpart A of the System became applicable to eligible DHS employees on March 3, 2005. Thereafter, DHS extended coverage of Subparts D (Performance Management), F (Adverse Actions) and G (Appeals) of the regulations to certain eligible DHS employees within some DHS components. DHS phased in coverage to certain employees under Subpart D (Performance Management) beginning April 1, 2007 and, similarly, coverage under Subpart F (Adverse Actions) and G (Appeals) beginning May 1, 2007. The provisions ultimately covered more than 35,000 eligible DHS employees.

On September 30, 2008, the President signed the Consolidated Security, Disaster Assistance and Continuing Appropriations Act, 2009, Public Law 110-329 (2008) (the “FY 09 DHS Appropriations Act”). Congress provided in the FY 09 DHS Appropriations Act at Section 522(a), “None of the funds provided by this or any other Act may be obligated for the development, testing, deployment, or operation of any portion of a human resources management system authorized by 5 U.S.C. 9701(a), or by regulations prescribed pursuant to such section, for an employee as defined in 5 U.S.C. 7103(a)(2).”

As a result of this enactment, and pursuant to 5 CFR 9701.102(e), effective October 1, 2008, the Department is rescinding application of 5 CFR 9701, Subparts A-G, as to all eligible, covered employees Department-wide. DHS components will convert employees covered by these subparts to coverage under applicable Title 5 provisions. Rescinding application also rescinds the waivers made in 5 CFR part 9701, including waivers of Title 5 Chapters 43, 75, and 77.

The Department has coordinated these actions with the Office of Personnel Management and has provided separate advance notice to affected employees and labor organizations, as well as to the Merit System Protection Board.

Dated: October 1, 2008.
Thomas D. Cairns,
Chief Human Capital Officer, Department of Homeland Security.

[FR Doc. E8-23735 Filed 10-6-08; 8:45 am]

BILLING CODE 4410-10-P